DEPARTMENT OF AGRICULTURE

Food and Nutrition Service

Agency Information Collection Activities: Proposed Collection; Comment Request: Procurement Requirements for the National School Lunch, School Breakfast and Special Milk Programs

AGENCY: Food and Nutrition Service, USDA.

ACTION: Notice.

SUMMARY: In accordance with the Paperwork Reduction Act of 1995, this notice invites the general public and other public agencies to comment on proposed information collections. The proposed collection is a new collection of information.

DATES: Written comments must be submitted on or before August 4, 2006.

ADDRESSES: Comments are invited on: (a) Whether the collection of information is necessary for the proper performance of the functions of the agency, including whether the information will have practical utility; (b) the accuracy of the agency's estimate of the burden of the collection of information, including the validity of the methodology and assumptions used; (c) ways to enhance the quality, utility, and clarity of the information to be collected; and (d) ways to minimize the burden of the collection of information on those who are to respond, including through the use of appropriate automated, electronic, mechanical, or other technological collection techniques or other forms of information technology.

Comments may be sent to Melissa Rothstein, Chief, Program Analysis and Monitoring Branch, Food and Nutrition Service, Department of Agriculture, 3101 Park Center Drive, Room 640, Alexandria, Virginia 22302-1594.

All responses to this notice will be summarized and included in the request for OMB approval. All comments will be a matter of public record.

FOR FURTHER INFORMATION CONTACT: Requests for additional information or copies of the information collection should be directed to Lynn Rodgers at the above address or by telephone at 703-305-2590.

SUPPLEMENTARY INFORMATION: Title: Procurement Requirements for the National School Lunch, School Breakfast and Special Milk Programs.

OMB Number: 0584-NEW.

Expiration Date: Not yet determined.

Type of Request: New collection.

Abstract: On December 30, 2004, FNS published a proposed rule at 69 FR 78340 seeking to amend 7 CFR parts 210, 215, and 220, to revise the National School Lunch, School Breakfast, and Special Milk Programs, respectively, regarding the use of Federal funds for the provision of meals and milk for school children under these programs.

This rule would prohibit a school food authority from using funds in the nonprofit school food service account for expenditures made under an improperly procured contract, including any cost reimbursable provision of a contract that permits the contractor to receive payments in excess of the contractor's actual net allowable costs. State agencies would also be responsible for reviewing and approving contracts between school food authorities and food service management companies prior to their execution.

This change will ensure optimum utilization of funds in the nonprofit school food service account. The burden associated with the procurement requirements will only affect schools participating in the National School Lunch or School Breakfast Programs that contract with food service management companies. The burden associated with schools participating in the Special Milk Program would be minimal because milk is often the sole procured item and the procurement is generally handled at the school food authority level. Therefore, this burden is also carried in the National School Lunch Program.

Estimated Annual Recordkeeping and Reporting Burden
| Section | Annual number of respondents | Number responses per respondent | Hours per response | Total burden
National School Lunch Program State agency review and approve procurements between school food authority and contractor | 7 CFR | 57 | 22 | 0.167 | 209
Total existing State | 210.19(a)
Total proposed State agencies | 7 CFR 210.19(a) | 57 | 30 | .4 | 684
School food authority provide procurement materials to State agency for approval:
Total existing school food authorities |  | 1,648 | 1 | .25 | 412
Total proposed school food authorities |  | 1,648 | 1 | 1.5 | 2,472

Affected Public: State, Local, or Tribal Government, Individuals or household, Business or other for-profit, Not-for-profit institutions, and Federal government.

Estimated Number of Respondents: 1,648.

Number of responses per respondent: 1.

Estimated total annual responses: 1,648.

Hours per response: 1.5.

Number of recordkeepers: 57.

Estimated annual hours per recordkeeper: 0.40.

Total recordkeeping hours: 684.

Total reporting hours: 2,472.

Total Annual Burden: 3,156 hours.

Dated: May 25, 2006.
Roberto Salazar,
Administrator, Food and Nutrition Service.

[FR Doc. E6-8655 Filed 6-2-06; 8:45 am]

BILLING CODE 3410-30-P